DEPARTMENT OF TRANSPORTATION

Federal Motor Carrier Safety Administration

[Docket No. FMCSA-2017-0277]

Hours of Service of Drivers: Application for Exemption; Hub Group Trucking Inc.

AGENCY: Federal Motor Carrier Safety Administration (FMCSA), DOT.

ACTION: Notice of application for exemption; request for comments.

SUMMARY: FMCSA announces that the Hub Group Trucking Inc. (HGT) has requested an exemption from the electronic logging device (ELD) requirements to permit an alternative grandfather period for any commercial motor vehicles added to HGT's fleet after the December 18, 2017, compliance date. HGT reports that all of its 2,700 trucks are equipped with automatic on-board recording devices (AOBRDs) and it expects to add at least 160 trucks to its fleet in 2018. If the exemption is granted it would allow HGT to equip the additional trucks with AOBRDs instead of the required ELDs until the company's full transition to ELDs can be accomplished. HGT is confident that its AOBRD-compliant approach between December 18, 2017, and its full transition to ELDs by the end of 2018, would achieve a level of safety that is at least equivalent to the level of safety that would be obtained by strict compliance with a mixed AOBRD-ELD fleet.

DATES: Comments must be received on or before November 30, 2017.

ADDRESSES: You may submit comments identified by Federal Docket Management System (FDMS) Number FMCSA-2017-0277 by any of the following methods:

• Federal eRulemaking Portal: www.regulations.gov. See the Public Participation and Request for Comments section below for further information.

• Mail: Docket Management Facility, U.S. Department of Transportation, 1200 New Jersey Avenue SE., West Building, Ground Floor, Room W12-140, Washington, DC 20590-0001.

• Hand Delivery or Courier: West Building, Ground Floor, Room W12-140, 1200 New Jersey Avenue SE., between 9 a.m. and 5 p.m., Monday through Friday, except Federal holidays.

• Fax: 1-202-493-2251

• Each submission must include the Agency name and the docket number for this notice. Note that DOT posts all comments received without change to www.regulations.gov, including any personal information included in a comment. Please see the Privacy Act heading below.

Docket: For access to the docket to read background documents or comments, go to www.regulations.gov at any time or visit Room W12-140 on the ground level of the West Building, 1200 New Jersey Avenue SE., Washington, DC, between 9 a.m. and 5 p.m., ET, Monday through Friday, except Federal holidays. The online FDMS is available 24 hours each day, 365 days each year.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: For information concerning this notice, contact Mr. Tom Yager, Chief, FMCSA Driver and Carrier Operations Division; Office of Carrier, Driver and Vehicle Safety Standards; Telephone: 614-942-6477. Email: MCPSD@dot.gov. If you have questions on viewing or submitting material to the docket, contact Docket Services, telephone (202) 366-9826.

SUPPLEMENTARY INFORMATION:

I. Public Participation and Request for Comments

FMCSA encourages you to participate by submitting comments and related materials.

Submitting Comments

If you submit a comment, please include the docket number for this notice (FMCSA-2017-0277), indicate the specific section of this document to which the comment applies, and provide a reason for suggestions or recommendations. You may submit your comments and material online or by fax, mail, or hand delivery, but please use only one of these means. FMCSA recommends that you include your name and a mailing address, an email address, or a phone number in the body of your document so the Agency can contact you if it has questions regarding your submission.

To submit your comments online, go to www.regulations.gov and put the docket number, “FMCSA-2017-0277” in the “Keyword” box, and click “Search.” When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope. FMCSA will consider all comments and material received during the comment period and may grant or not grant this application based on your comments.

II. Legal Basis

FMCSA has authority under 49 U.S.C. 31136(e) and 31315 to grant exemptions from certain parts of the Federal Motor Carrier Safety Regulations (FMCSRs). FMCSA must publish a notice of each exemption request in the Federal Register (49 CFR 381.315(a)). The Agency must provide the public an opportunity to inspect the information relevant to the application, including any safety analyses that have been conducted. The Agency must also provide an opportunity for public comment on the request.

The Agency reviews safety analyses and public comments submitted, and determines whether granting the exemption would likely achieve a level of safety equivalent to, or greater than, the level that would be achieved by the current regulation (49 CFR 381.305). The decision of the Agency must be published in the Federal Register (49 CFR 381.315(b)) with the reasons for denying or granting the application and, if granted, the name of the person or class of persons receiving the exemption, and the regulatory provision from which the exemption is granted. The notice must also specify the effective period and explain the terms and conditions of the exemption. The exemption may be renewed (49 CFR 381.300(b)).

III. Request for Exemption

HGT reports that it is an interstate motor carrier based in Oak Brook, Illinois with 23 terminal locations throughout the United States. HGT operates 2,700 trucks and utilizes approximately 2,700 drivers. The vast majority of HGT's trucks service the intermodal sector of freight transportation. All of HGT's trucks are currently equipped with AOBRDs and the entire fleet has been AOBRD compliant since late 2010.

The current ELD rule under section 49 CFR 395.15 includes a grandfather provision for a compliant AOBRD that a motor carrier installs and requires its drivers to use before the compliance date of December 18, 2017. A motor carrier may continue to use grandfathered AOBRDs no later than December 16, 2019.

HGT is requesting a limited exemption from the ELD rule to allow any truck added to its fleet after December 17, 2017, to be equipped with an AOBRD in lieu of an ELD until full transition to ELDs for all of its fleets can be accomplished. HGT reports that the company plans to add at least 160 new trucks and drivers to its fleet in 2018 to accommodate growth in its business. If the exemption is granted, it would cover these new trucks and drivers.

HGT contends that the company will face several challenges running two different electronic logging systems at the same time if the exemption is not granted. Challenges such as the complexity of managing the data in the back office, and more importantly, complexities in training and managing drivers and staff likely to use both systems.

According to HGT, with two systems, a company its size will create some roadside inspection enforcement-related challenges for the driver, enforcement officials involved, and for HGT's safety compliance staff. HGT further contends that it faces the expense of updating a legacy database to fully populate the new ELD header. HGT's InfoTrak database currently does not contain at least three data elements that must be included in the new ELD “print/display daily header.” Data elements include the driver's name, the driver's license State, and the truck number. HGT reports that it recently spent substantial resources to migrate to a new system that will contain all of the data fields and information needed to auto-populate the required ELD header. Without the exemption, HGT will be forced to spend a great deal of time and money to reprogram its legacy system to ensure compliance for the time between December 18, 2017, and the time in 2018 when HGT implements its new system and fully transitions to ELDs network-wide.

According to HGT, its AOBRD-compliant approach between December 18, 2017, and its full transition to ELDs by the end of 2018, will achieve a level of safety that is at least equivalent to the level of safety that would be obtained by strict compliance with a mixed AORBD-ELD fleet. The requested exemption is for two years.

A copy of HGT's application for exemption is available for review in the docket for this notice.

Issued on: October 18, 2017.
Larry W. Minor,
Associate Administrator for Policy.

[FR Doc. 2017-23632 Filed 10-30-17; 8:45 am]

BILLING CODE 4910-EX-P